DEPARTMENT OF COMMERCE

Census Bureau

Agency Information Collection Activities; Submission to the Office of Management and Budget (OMB) for Review and Approval; Comment Request; Service Annual Survey

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on September 21, 2020 during a 60-day comment period. This notice allows for an additional 30 days for public comments.

Agency: U.S. Census Bureau.

Title: Service Annual Survey.

OMB Control Number: 0607-0422.

Form Number(s): There are 91 individual forms, too numerous to list here.

Type of Request: Regular submission, Request for a Revision of a Currently Approved Collection.

Number of Respondents: 93,722.

Average Hours per Response: 1.5305.

Burden Hours: 143,437.

Needs and Uses: Over 50 percent of all economic activity is generated by businesses in the services sectors, defined to exclude retail and wholesale trade. The U.S. Census Bureau currently measures the total output of most of the service industries annually in the Service Annual Survey (SAS). This survey currently covers all or portions of: Utilities; Transportation and Warehousing; Information; Finance and Insurance; Real Estate and Rental and Leasing; Professional, Scientific, and Technical Services; Administrative and Support and Waste Management and Remediation Services; Educational Services; Health Care and Social Assistance; Arts, Entertainment, and Recreation; Accommodation and Food Services; and Other Services (except Public Administration) as defined by the North American Industry Classification System (NAICS). The SAS provides the only official source of annual revenue estimates for the service industries.

Estimates from the SAS are essential to measurement of economic growth, real output, prices, and productivity for our nation's economy. A broad spectrum of government and private stakeholders use these estimates in analyzing economic activity; forecasting economic growth; and compiling data on productivity, prices and the gross domestic product (GDP). In addition, trade and professional organizations use these estimates to analyze industry trends, benchmark their own statistical products and develop forecasts. Private businesses use these estimates to measure market share, analyze business potential, and plan investments.

Collected data include operating revenue for both taxable and tax-exempt firms and organizations, sources of revenue and expenses by type for selected industries, operating expenses, and selected industry-specific items. In addition, e-commerce data is collected for all industries, and export and inventory data are collected for selected industries. The availability of these data greatly improves the quality of the intermediate inputs and value-added estimates in the annual input-output and GDP by industry accounts produced by the Bureau of Economic Analysis (BEA).

Beginning in survey year 2020, the operating expenses content on all SAS questionnaires will change to a version that will be used in Economic Census years and non-Economic Census years. This change will aid in creating a consistent survey experience for respondents from year to year and better meet the needs of our data users. The proposed expense questions are shown in Attachment 2. This spreadsheet shows the different versions of the expense questions that will appear on each SAS form variation.

Minor changes will also be made to various forms to increase clarity of what is being asked of respondents (e.g., improving instructions or removing parts of a question), improve the quality of data the Census Bureau receives, and further reduce respondent burden.

To improve data quality, harmonize survey content, and reduce respondent burden, the Service Annual Survey will alter a question asking about organizational change within a company. This question appears as question 3 for respondents in all industries SAS covers. The question inquires about any organizational changes a company experienced during the given year and currently refers to acquisitions, mergers, sales, and divestitures. The revision will alter the question text to include instances where a company ceased operations and would add “ceased operation” as an answer choice. This change would provide additional information about a company's activity in a given year, having the potential to improve data quality. Additionally, the revision would synchronize SAS content with the relevant questions on the Annual Retail Trade Survey (ARTS) and the Annual Wholesale Trade Survey (AWTS), making the surveys more consistent for respondents.

In addition, with the increased use of telemedicine services during this public health emergency, the Service Annual Survey proposes expanding the scope of questions on telemedicine beyond ambulatory health care providers to include hospitals and nursing homes. Telemedicine is an important mode of service delivery for the healthcare industry, and its importance has increased during the current pandemic. Expanding the collection of data on telemedicine use will support measurement on changes in its adoption during this unprecedented public health emergency. SAS currently asks ambulatory health care providers (NAICS 621) about telemedicine services in relation to patient visits. This proposal will add a question about revenues from telemedicine services for hospitals (NAICS 622) and nursing homes (NAICS 623). Furthermore, to standardize content across industries and provide consistency for respondents, the current telemedicine question asked of the ambulatory health care providers would be revised to match the question being added to the other industries.

Affected Public: Business or other for-profit organizations.

Frequency: Annually.

Respondent's Obligation: Mandatory.

Legal Authority: Title 13, United States Code, Sections 131 and 182 authorize the collection. Sections 224 and 225 make reporting mandatory.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0422.

Sheleen Dumas,
Department PRA Clearance Officer, Office of the Chief Information Officer, Commerce Department.

[FR Doc. 2020-27041 Filed 12-8-20; 8:45 am]

BILLING CODE 3510-07-P